DEPARTMENT OF DEFENSE

Office of the Secretary

Availability of the Fiscal Year 2008 Defense Information Systems Agency (DISA) Services Contract Inventory

AGENCY: Defense Information Systems Agency, DoD.

ACTION: Notice of availability.

SUMMARY: In accordance with Section 2330a of Title 10 United States Code as amended by Section 807 of the National Defense Authorization Act for Fiscal Year 2008 (NDAA 08), the Director of the Defense Information Systems Agency and the Office of the Director, Defense Procurement and Acquisition Policy, Office of Strategic Sourcing (DPAP/SS) will make available to the public its first inventory of activities performed pursuant to contracts for services. The inventory will be published to the Defense Information System Agency Web site at the following location: http://www.ditco.disa.mil/hq/807_inventory.asp.

DATES: Inventory to be publicly available not later than October 28, 2009.

ADDRESSES: Send written comments and suggestions concerning this inventory to Linda Goff, Procurement Analyst, DISA/PL23, 2300 East Drive, Scott AFB IL 62225. address.

FOR FURTHER INFORMATION CONTACT: Contact Linda Goff at telephone number 618-229-9486 or e-mail at linda.goff@disa.mil.

SUPPLEMENTARY INFORMATION: Section 807 of the NDAA FY08 amends Section 2330a of Title 10 United States Code to require annual inventories and reviews of activities performed pursuant to contracts for services. The Acting Deputy Under Secretary of Defense (Acquisition and Technology) (DUSD(AT)) transmitted the DISA inventory to Congress on September 29, 2009. The report may be downloaded in electronic form (.pdf) from the Web site at the following location: http://www.ditco.disa.mil/hq/807_inventory.asp. The inventory does not include contract numbers, contractor identification or other proprietary or sensitive information as this data can be used to disclose a contractor's proprietary proposal information. There is no inventory of classified services contracts.

Dated: October 20, 2009.
Patricia L. Toppings,
OSD Federal Register Liaison Officer, Department of Defense.

[FR Doc. E9-25700 Filed 10-23-09; 8:45 am]

BILLING CODE 5001-06-P